DEPARTMENT OF TRANSPORTATION

Federal Highway Administration

Environmental Impact Statement: San Juan County, UT

AGENCY: Federal Highway Administration (FHWA), DOT.

ACTION: Notice of intent.

SUMMARY: The FHWA is issuing this notice to advise the public that an environmental impact statement will be prepared for proposed transportation improvements in San Juan County, Utah.

FOR FURTHER INFORMATION CONTACT: Jeffrey Berna, Environmental Specialist, Federal Highway Administration, 2520 West 4700 South, Suite 9A, Salt Lake City, Utah 84118, Telephone: (801) 963-0182; or Mr. Kim Manwill, Project Manager, Utah Department of Transportation, 1345 South 350 West, Richfield, Utah 84701, Telephone: (435) 893-4799.

SUPPLEMENTARY INFORMATION: The FHWA, in cooperation with the Utah Department of Transportation will prepare an environmental impact statement (EIS) on proposed transportation improvements on State Route 162 (formerly known as State Route 262). The proposed improvements will be developed after a study has been completed to determine the current and future transportation needs in the study area, which extends from a point approximately 0.75 mile beyond (NW) of the intersection of State Routes 162 and 262 in Montezuma Creek to point approximately 1.25 miles beyond (SE) of the McElmo Creek bridge. The FHWA will evaluate a reasonable range of alternatives to reconfigure State Route 162 so that it meets current safety standards, including such alternatives as adjusting horizontal curves, installing guard rails, adding shoulder width and/or providing sufficient roadside clear zone. FHWA will fully evaluate the indirect and cumulative effects of the proposed project as required by law. The proposed project study area lies within San Juan County and the Navajo Nation, Aneth Chapter, and includes portions of the towns of Montezuma Creek and Aneth.

Letters describing the proposed action and soliciting comments will be sent to appropriate Federal, State, and local agencies, and to private organizations and citizens who have previously expressed or are known to have an interest in this proposal. A series of public meetings, including scoping meetings, will be held in the project area. In addition, a public hearing will be held. Public notice will be given for the time and place of the meetings and hearing. The draft EIS will be available for public and agency review and comment prior to the public hearing.

To ensure the full range of issues related to this proposed action are addressed and all significant issues identified, comments, and suggestions are invited from all interested parties. Comments or questions concerning this proposed action and the EIS should be directed to the FHWA at the address provided above.

(Catalogue of Federal Domestic Assistance Program Number 20.205, Highway Research, Planning and Construction. The regulations implementing Executive Order 12372 regarding intergovernmental consultation on Federal programs and activities apply to this program.)
Issued on: February 2, 2006.
Jeffrey Berna,
Environmental Specialist, Salt Lake City, Utah.

[FR Doc. 06-1144 Filed 2-7-06; 8:45 am]

BILLING CODE 4910-22-M